DEPARTMENT OF COMMERCE

Foreign-Trade Zones Board

[Docket 39-2011]

Foreign-Trade Subzone 78A Application for Expansion of Manufacturing Authority Nissan North America, Inc. (Electric Passenger Vehicles) Smyrna and Decherd, TN

An application has been submitted to the Foreign-Trade Zones Board (the Board) by Nissan North America, Inc. (NNA), operator of FTZ 78A, NNA facilities, Smyrna and Decherd, Tennessee, requesting authority to expand the scope of FTZ manufacturing authority. The application was submitted pursuant to the provisions of the Foreign-Trade Zones Act, as amended (19 U.S.C. 81a-81u), and section 400.28(a)(2) of the Board's regulations (15 CFR part 400). It was formally filed on June 7, 2011.

Subzone 78A (over 4,000 employees, 550,000 light-duty motor vehicles/year) was approved by the Board in 1982 with authority granted for the manufacture of light-duty pickup trucks at the NNA plant located at 983 Nissan Drive in Smyrna, Tennessee (Board Order 190, 47 FR 16191, 4-12-1982), and the scope of manufacturing authority was expanded to include passenger sedans and minivans, engines, and transmissions in 1984 (Board Order 272, 49 FR 35395, 9-7-1984). In 1993, the subzone was expanded and the scope of manufacturing authority was expanded to accommodate an increase in overall production capacity at the plant (Board Order 632, 58 FR 18850, 3-30-1993). The subzone was subsequently expanded in 1997 to add a new engine and transmission production facility in Decherd, Tennessee (Board Order 869, 62 FR 13595, 3-21-1997).

The applicant now seeks to expand the scope of authority to include electric-powered, light-duty passenger vehicles (up to 150,000 vehicles/year) and related lithium-ion batteries (200,000 units/year) as additional finished products to be manufactured under FTZ procedures at the Smyrna facility. The following foreign-origin materials and components (representing about 31% of the value of the finished products) would be used in the manufacture of the electric passenger vehicles and lithium-ion batteries: Acid-based additives, wash fluid (acrylic/vinyl polymers), brake fluid, coolant, electrolytes (chemical), labels and film, separators (plastic), plastic fittings/gaskets/grommets/emblems, v-belts, tires, tool sets, glass, mirrors, fasteners, tabs, locks, springs, rings, insulators, electrodes (anode, cathode), gaskets, valves, bearings, oil coolers, flywheels, pulleys, shaft couplings, sprockets, spacers, motors, battery chargers, magnets, batteries and related parts, electrical components, electronic controllers and modules, audio components, sensors, antennas, cables, wiring sets, connectors, brake parts (wireless), knobs, and junction boxes (duty rate range: Free—9.0%).

Expanded FTZ procedures could exempt NNA from customs duty payments on the foreign-origin components used in electric passenger vehicles and lithium-ion batteries manufactured for export. On its domestic shipments, NNA would be able to choose the duty rate during customs entry procedures that applies to electric passenger vehicles (duty rate — 2.5%) and lithium-ion batteries (3.4%) for the foreign inputs noted above. Customs duties also could possibly be deferred or reduced on foreign status production equipment. NNA would also be exempt from duty payments on foreign inputs that become scrap during the production process.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is August 12, 2011. Rebuttal comments in response to material submitted during the foregoing period may be submitted during the subsequent 15-day period to August 29, 2011.

A copy of the application will be available for public inspection at the Office of the Foreign-Trade Zones Board's Executive Secretary at the address listed above and in the “Reading Room” section of the Board's Web site, which is accessible via http://www.trade.gov/ftz.

For further information, contact Pierre Duy at Pierre.Duy@trade.gov or (202) 482-1378.

Dated: June 7, 2011.
Andrew McGilvray,
Executive Secretary.

[FR Doc. 2011-14574 Filed 6-10-11; 8:45 am]

BILLING CODE 3510-DS-P